DEPARTMENT OF COMMERCE

National Oceanic and Atmospheric Administration

RIN 0648-XD115

New England Fishery Management Council; Public Meeting

AGENCY: National Marine Fisheries Service (NMFS), National Oceanic and Atmospheric Administration (NOAA), Commerce.

ACTION: Notice of a public meeting.

SUMMARY: The New England Fishery Management Council (Council) will hold a two-day meeting to consider actions affecting New England and Mid-Atlantic fisheries in the exclusive economic zone (EEZ).

DATES: The meeting will be held on Tuesday and Wednesday, February 25-26, 2014 and will begin at 9:30 a.m. on Tuesday, February 25, and at 8:30 a.m. on Wednesday, February 26.

ADDRESSES: The meeting will be held at the DoubleTree by Hilton Hotel, 50 Ferncroft Road, Danvers, MA 01923; telephone: (978) 777-2500 or online at www.doubletree.hilton.com/Danvers.

Council Address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday and Wednesday, February 25-26, 2014

The meeting will begin with brief introductions by the Chairman, followed by a discussion of recreational groundfish fishery issues. After the Council considers recommendations from its Recreational Advisory Panel, it will develop recommendations for proactive accountability measures that will apply to Gulf of Maine haddock and Gulf of Maine cod for fishing year 2014. Once this agenda item is completed, the Council will hold an open public comment period during which any interested party may provide brief remarks on issues relevant to Council business, but not listed on the meeting agenda.

A report from the Habitat Committee will follow prior to a lunch break and address the development of Omnibus Essential Fish Habitat 2. The Council intent is to review and approve the Draft Environmental Impact Statement associated with this action and identify preferred alternatives. Discussion and decision-making on Omnibus Essential Fish Habitat 2 will continue for the remainder the day on Tuesday and through Wednesday February 26. The Council may address any other outstanding business before meeting adjournment on Wednesday.

Although other non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: February 4, 2014.
Tracey L. Thompson,
Acting Deputy Director, Office of Sustainable Fisheries, National Marine Fisheries Service.

[FR Doc. 2014-02676 Filed 2-6-14; 8:45 am]

BILLING CODE 3510-22-P